DEPARTMENT OF AGRICULTURE

Rural Utilities Service

Announcement of Grant Application Deadlines and Funding Levels for the Assistance to High Energy Cost Rural Communities

AGENCY: Rural Utilities Service, USDA.

ACTION: Notice of funding availability (NOFA).

SUMMARY: The Rural Utilities Service (RUS), an agency of the United States Department of Agriculture (USDA), announces the availability of up to $7 million in Fiscal Year 2012 for competitive grants to assist communities with extremely high energy costs. This grant program is authorized under section 19 of the Rural Electrification Act of 1936 (RE Act) (7 U.S.C. 918a) and program regulations at 7 CFR part 1709. The grant funds may be used to acquire, construct, extend, upgrade, or otherwise improve energy generation, transmission, or distribution facilities serving communities in which the average residential expenditure for home energy exceeds 275 percent of the national average. Eligible applicants include persons, States, political subdivisions of States, and other entities organized under State law. Federally-recognized Indian Tribes and Tribal entities are eligible applicants. This notice describes the eligibility and application requirements, the criteria that will be used by RUS to award funding, and information on how to obtain application materials. The Catalog of Federal Domestic Assistance (CFDA) Number for this program is 10.859. You may obtain the Application Guide and materials for the Assistance to High Energy Cost Rural Communities Grant Program via the Internet at the following Web site: http://www.rurdev.usda.gov/UEP_Our_Grant_Programs.html. You may also request the Application Guide and materials from RUS by contacting the individual listed in the FOR FURTHER INFORMATION CONTACT section of this notice.

DATES: You may submit completed grant applications on paper or electronically according to the following deadlines:

• Paper applications must be postmarked and mailed, shipped, or sent overnight, no later than July 30, 2012, or hand delivered to RUS by this deadline, to be eligible under this NOFA. Late or incomplete applications will not be eligible for FY 2012 grant funding.

• Electronic applications must be submitted through Grants.gov no later than midnight July 30, 2012 to be eligible under this NOFA for FY 2012 grant funding. Late or incomplete electronic applications will not be eligible.

• Applications will not be accepted by electronic mail.

Applications will be accepted upon publication of this notice until midnight (EST) of the closing date of July 30, 2012.

ADDRESSES: You may submit completed applications for grants on paper or electronically to the following addresses:

• Paper applications are to be submitted to the Rural Utilities Service, Electric Programs, United States Department of Agriculture, 1400 Independence Avenue SW., STOP 1560, Room 5165 South Building, Washington, DC 20250-1560. Applications should be marked “Attention: High Energy Cost Grant Program.”

• Applications may be submitted electronically through Grants.gov. Information on how to submit applications electronically is available on the Grants.gov Web site (http://www.Grants.gov).

Application Guides and materials may be obtained electronically through: http://www.rurdev.usda.gov/UEP_Our_Grant_Programs.html. Call the RUS Electric Programs at (202) 720-9545 to request paper copies of Application Guides and other materials.

FOR FURTHER INFORMATION CONTACT: Kristi Kubista-Hovis, Senior Policy Advisor, Rural Utilities Service, Electric Programs, United States Department of Agriculture, 1400 Independence Avenue SW., STOP 1560, Room 5165 South Building, Washington, DC 20250-1560. Telephone 202-720-9545, Fax 202-690-0717, email Kristi.kubista-hovis@wdc.usda.gov.

SUPPLEMENTARY INFORMATION:

Overview Information

Federal Agency Name: United States Department of Agriculture, Rural Utilities Service.

Funding Opportunity Title: Assistance to High Energy Cost Rural Communities.

Announcement Type: Initial announcement.

Funding Opportunity Number: RD- RUS-HECG12.

Catalog of Federal Domestic Assistance (CFDA) Number: 10.859. The CFDA title for this program is “Assistance to High Energy Cost Rural Communities.”

Dates: Applications must be postmarked and mailed or shipped, or hand delivered to the RUS, or filed with Grants.gov by July 30, 2012.

I. Funding Opportunity Description

The Rural Utilities Service (RUS) is making available up to $7 million in competitive grants under section 19 of the Rural Electrification Act of 1936 (the “RE Act”) (7 U.S.C. 918a)., $2.5 million has been awarded to the Denali Commission.

This NOFA announces the availability of fiscal year 2012 grant funds, and provides an overview of the grant program, the eligibility and application requirements, and selection criteria for grant proposals. This NOFA specifies the high energy cost eligibility benchmarks and scoring criteria for fiscal year 2012 grants. Applicants are encouraged to review the notice carefully. RUS is also making available an Application Guide with more detailed information on application requirements and copies of all required forms and certifications. The Application Guide is available on the Internet from the RUS Web site at: http://www.rurdev.usda.gov/UEP_Our_Grant_Programs.html. The Application Guide may also be requested from the contact listed in the FOR FURTHER INFORMATION CONTACT section of this notice. For additional information, applicants should consult the program regulations at 7 CFR part 1709.

Definitions

Consult the program regulations at 7 CFR part 1709 and the Application Guide for additional definitions used in this program. As used in this NOFA:

Agency means the Rural Utilities Service (RUS) of the United States Department of Agriculture.

Application Guide means the Application Guide prepared by RUS for the High Energy Cost Grant program containing detailed instructions for preparing grant applications, and copies of required forms, questionnaires, and model certifications.

Area means the geographic area to be served by the grant.

Community means the unit or units of local government in which the area is located.

Extremely high energy costs means community average residential energy costs that meet or exceed one or more home energy cost benchmarks established by the Administrator at 275 percent of the national average residential energy expenditures as reported by the Energy Information Administration (EIA) of the United States Department of Energy.

Home energy means any energy source or fuel used by a household for purposes other than transportation, including electricity, natural gas, fuel oil, kerosene, liquefied petroleum gas (propane), other petroleum products, wood and other biomass fuels, coal, wind, and solar energy. Fuels used for subsistence activities in remote rural areas are also included.

High energy cost benchmarks means the criteria established by the Administrator for eligibility as an extremely high energy cost community. Home energy cost benchmarks are calculated for total annual household energy expenditures; total annual expenditures for individual fuels; annual average per unit energy costs for primary home energy sources and are set at 275 percent of the relevant national average household energy expenditures.

Indian Tribe means a Federally recognized Tribe as defined under section 4 of the Indian Self-Determination and Education Assistance Act (25 U.S.C. 450b) to include “* * * any Indian Tribe, band, nation, or other organized group or community, including any Alaska Native village or regional or village corporation as defined in or established pursuant to the Alaska Native Claims Settlement Act [43 U.S.C. 1601 et seq.], that is recognized as eligible for the special programs and services provided by the United States to Indians because of their status as Indians.”

Person means any natural person, firm, corporation, association, or other legal entity, and includes Indian Tribes and Tribal entities.

Primary home energy source means the energy source that is used for space heating or cooling, water heating, cooking, and lighting. A household or community may have more than one primary home energy source.

State rural development initiative means a rural economic development program funded by or carried out in cooperation with a State agency or Indian Tribe.

Tribal entity means a legal entity that is owned, controlled, sanctioned, or chartered by the recognized governing body of an Indian Tribe.

II. Award Information

The total amount of funds available for High Energy Cost grants in Fiscal Year 2012 under this notice is $7 million. The maximum amount of grant assistance that will be awarded for funding in a grant application under this notice is $3,000,000. The minimum amount of assistance for a grant application under this program is $20,000. The number of grants awarded under this NOFA will depend on the number of complete applications submitted, the amount of grant funds requested, the quality and competitiveness of applications submitted, and the availability of funds. Applicants are limited to one award in any fiscal year. No funding is available for education and outreach.

The funding instrument available under this NOFA will be a grant agreement. Grants awarded under this notice must comply with all applicable USDA and Federal regulations applicable to financial assistance, with the terms of this notice, and with the requirements of section 19 of the RE Act. Grants made under this NOFA will be administered under the RUS program regulations at 7 CFR part 1709 and USDA financial assistance regulations at 7 CFR parts 3015, 3016, 3017, 3018, 3019, and 3052, as applicable. The award period and period of performance will be from 1-3 years. Grant agreements will not be negotiated.

Applicants must provide a narrative grant proposal prepared according to the instructions in this NOFA and application guide, along with all required forms and information in order to submit a complete application.

No application submitted through a prior High Energy Cost Grant NOFA will be considered for 2012 funding. All prior applicants must resubmit a new application to be considered for funding under this NOFA. There will be no exceptions.

All timely submitted and complete applications will be reviewed for eligibility and rated according to the criteria described in this NOFA. Applications will be ranked in order of their numerical scores on the rating criteria and forwarded to the RUS Administrator. The RUS Administrator is the Federal Selection official of the competitive awards. The Administrator will review the rankings and the recommendations of the rating panel. The Administrator will then fund grant applications in rank order to the extent of available funds.

The RUS reserves the right not to award all the funds made available under this notice. RUS anticipates making multiple awards. Applicants should take proper care in preparing the project's scope and cost estimate. The proposed scope and cost will not be negotiated.

III. Eligibility Information

1. Eligible Applicants

Under Section 19 eligible applicants include “Persons, States, political subdivisions of States, and other entities organized under the laws of States” (7 U.S.C. 918a). Under section 13 of the RE Act, the term “Person” means “any natural person, firm, corporation, or association” (7 U.S.C. 913). Examples of eligible business applicants include: for-profit and non-profit business entities, including but not limited to corporations, associations, partnerships, limited liability partnerships (LLPs), cooperatives, trusts, and sole proprietorships. Eligible government applicants include State and local governments, counties, cities, towns, boroughs, or other agencies or units of State or local governments; and other agencies and instrumentalities of States and local governments. Indian Tribes, other Tribal entities and Alaska Native Corporations are also eligible applicants.

An individual is an eligible applicant under this program; however, the proposed grant project must provide community benefits and not be for the sole benefit of an individual applicant or an individual household or business.

All applicants must demonstrate the legal capacity of the applicant to execute a binding grant agreement with the Federal Government at the time of the award and to carry out the proposed grant funded project according to its terms.

Corporations that have been convicted of a felony (or had an officer or agency acting on behalf of the corporation convicted of a felony) within the past 24 months are not eligible. Any Corporation that has any unpaid federal tax liability that has been assessed, for which all judicial and administrative remedies have been exhausted or have lapsed, and that is not being paid in a timely manner pursuant to an agreement with the authority responsible for collecting the tax liability, is not eligible.

The Office of Management and Budget requires that all applicants for Federal grants with the exception of individuals other than sole proprietorships must provide a Dun and Bradstreet (D&B) Data Universal Numbering System (DUNS) number when applying. Consistent with this Federal policy directive, any organization or sole proprietorship that applies for a high energy cost grant must use its DUNS number on the application and in the field provided on the revised Standard Form 424 (SF 424) “Application for Federal Assistance” to be eligible to apply. DUNS numbers are available for free to Federal Grant applicants on line at http://fedgov.dnb.com/webform or may be obtained through a short phone call to D&B. Please see the “Get Registered” section on Grants.gov for more information on how to obtain a DUNS number or how to verify if your organization already has a DUNS number. If you already have obtained a DUNS number in connection with the Federal acquisition process or requested or had one assigned to you for another purpose, you should use that number on all of your applications. It is not necessary to request another DUNS number from D&B.

In accordance with 2 CFR part 25, applicants, whether applying electronically or by paper, must be registered in the CCR prior to submitting an application. Applicants may register for the CCR at https://www.uscontractorregistration.com/ or by calling 1-877-252-2700. Completing the CCR registration process takes up to five business days, and applicants are strongly encouraged to begin the process well in advance of the deadline specified in this notice.

The CCR registration must remain active, with current information, at all times during which an entity has an application under consideration by an agency or has an active Federal Award. To remain registered in the CCR database after the initial registration, the applicant is required to review and update, on an annual basis from the date of initial registration or subsequent updates, its information in the CCR database to ensure it is current, accurate and complete.

2. Cost Sharing and Matching

No cost sharing or matching funds are required as a condition of eligibility under this grant program. However, the RUS will consider other financial resources available to the grant applicant and any voluntary pledge of matching funds or other contributions in assessing the applicant's commitment and capacity to carry out the proposed project successfully include such contributions. If a successful applicant proposes to use matching funds or other cost contributions in its project, the grant agreement will include conditions requiring documentation of the availability of the matching funds and actual expenditure of matching funds or cost contributions. RUS may require the applicant to provide additional documentation confirming the availability of any matching contribution offered prior to approval of project selection. If an applicant fails to provide timely documentation of the availability of matching contributions, the RUS may, in its sole discretion, decline to award the project if uncertainties over availability of the match render the project financially unfeasible and impose additional conditions.

3. Other Eligibility Requirements

A. Eligible Projects

Grantees must use grant funds for eligible grant purposes. Grant funds may be used to acquire, construct, extend, upgrade, or otherwise improve energy generation, transmission, or distribution facilities serving eligible communities. All energy generation, transmission, and distribution facilities and equipment, used to provide electricity, natural gas, home heating fuels, and other energy service to eligible communities are eligible. Projects providing or improving energy services to eligible communities through on-grid and off-grid renewable energy projects, energy efficiency, and energy conservation projects are eligible. A grant project is eligible if it improves, or maintains energy services, or reduces the costs of providing energy services to eligible communities. Grant funds may not be used to pay utility bills or to purchase fuels. Grants may cover up to the full costs of any eligible projects subject to the statutory condition that no more than 4 percent of grant funds may be used for the planning and administrative expenses of the grantee. The program regulations at 7 CFR part 1709 provide more detail on allowable uses of grant funds, limitations on grant funds, and ineligible grant purposes. The project must serve communities that meet the extremely high energy cost eligibility requirements described in this NOFA. The applicant must demonstrate that the proposed project will benefit the eligible communities. Projects that primarily benefit a single household or business are not eligible. Additional information and examples of eligible project activities are contained in the Application Guide.

Grant funds cannot be used for: Preparation of the grant application, fuel purchases, routine maintenance or other operating costs, and purchase of equipment, structures, or real estate not directly associated with provision of residential energy services. In general, grant funds may not be used to support projects that primarily benefit areas outside of eligible communities. However, grant funds may be used to finance an eligible community's proportionate share of a larger energy project. Grant funds may not be used to refinance or repay the applicant's outstanding loans or loan guarantees under the Rural Electrification Act of 1936, as amended.

Each grant applicant must demonstrate the economic and technical feasibility of its proposed project. Activities or equipment that would commonly be considered as research and development activities, or commercial demonstration projects for new energy technologies will not be considered as technologically feasible projects and would, thus, be ineligible grant purposes. However, grant funds may be used for projects that involve the innovative use or adaptation of energy-related technologies that have been commercially proven. RUS, in its sole discretion, will determine if a project relies on unproven technology, and that determination shall be final.

B. Eligible Communities

The grant project must benefit communities with extremely high energy costs. The RE Act defines an extremely high energy cost community as one in which “the average residential expenditure for home energy is at least 275 percent of the national average residential expenditure for home energy” 7 U.S.C. 918a. The benchmarks are set based on the latest available information from the Energy Information Administration (EIA) residential energy surveys.

The statutory requirement that community residential expenditures for home energy exceed 275 percent of national average establishes a very high threshold for eligibility under this program. RUS has calculated high energy cost benchmarks based on the most recent EIA national average home energy expenditure data. The current benchmarks are shown in Table 1. Applicants must demonstrate that proposed communities must meet one or more high energy cost benchmarks to qualify as an eligible beneficiary of a grant under this program. All applications must meet these current eligibility benchmarks for high energy. Based on available published information on residential energy costs, RUS anticipates that only those communities with the highest energy costs across the country will qualify.

The EIA's Residential Energy Consumption and Expenditure Surveys (RECS) and reports provide the baseline national average household energy costs that were used for establishing extremely high energy cost community eligibility criteria for this grant program. The RECS data base and reports provide national and regional information on residential energy use, expenditures, and housing characteristics. EIA published its latest available RECS home energy expenditure survey results in 2009. These estimates of home energy usage and expenditures are based on national surveys conducted in 2005 survey data and are shown in Table 1 as follows:

Table 1—National Average Annual Household Energy Expenditures and Extremely High Energy Cost Eligibility Benchmarks Effective for Applications Submitted on or After June 28, 2012
Fuel | EIA 2005 national annual average household expenditure $ per year | RUS extremely high energy cost benchmark 275% of national average $ per year
Average Annual Household Expenditure
Electricity | 1,123 | 3,010
Natural Gas | 754 | 1,988
Fuel Oil | 1,518 | 3,921
LPG/Propane | 875 | 2,256
Total Household Energy Use | 1,810 | 4,860

Fuel (units) | EIA 2005 national average unit cost $ per unit | RUS extremely high energy cost benchmark 275% of national average $ per unit
Annual Average per Unit Residential Energy Costs
Electricity (kilowatt hours) | 0.10 | 0.264
Natural Gas (thousand cubic feet) | 11.24 | 30.30
Fuel Oil (gallons) | 2.04 | 5.54
LPG/Propane (gallons) | 1.92 | 5.10
Total Household Energy (million Btus) | 19.07 | 51.62
Sources: Energy Information Administration, United States Department of Energy, 2005 Residential Energy Consumption Survey—Detailed Tables, available at: http://www.eia.doe.gov/emeu/recs/recs2005/c&e/detailed_tables2005c&e.html.
The RUS benchmarks calculations include adjustments to reflect the uncertainties inherent in EIA's statistical methodology for estimating home energy costs. The benchmarks are set based on the EIA's lower range estimates using the specified EIA methods.

Extremely high energy costs in rural and remote communities typically result from a combination of factors including high energy consumption, high per unit energy costs, limited availability of energy sources, extreme climate conditions, and housing characteristics. The relative impacts of these conditions exhibit regional and seasonal diversity. Market factors have created an additional complication in recent years as the prices of the major commercial residential energy sources—electricity, fuel oil, natural gas, and LPG/propane— have fluctuated dramatically in some areas.

The applicant must demonstrate that each community in the grant project's proposed area exceeds one or more of these high energy cost benchmarks to be eligible for a grant under this program.

i. High Energy Cost Benchmarks

The benchmarks measure extremely high energy costs for residential consumers. These benchmarks were calculated using EIA's estimates of national average residential energy expenditures per household and by primary home energy source. The benchmarks recognize the diverse factors that contribute to extremely high home energy costs in rural communities. The benchmarks allow extremely high energy cost communities several alternatives for demonstrating eligibility. Communities may qualify based on: Total annual household energy expenditures; total annual expenditures for commercially-supplied primary home energy sources, i.e., electricity, natural gas, oil, or propane; or average annual per unit home energy costs. By providing alternative measures for demonstrating eligibility, the benchmarks reduce the burden on potential applicants created by the limited public availability of comprehensive data on local community energy consumption and expenditures.

A community or area will qualify as an extremely high cost energy community if it meets one or more of the energy cost eligibility benchmarks described below.

a. Extremely High Average Annual Household Expenditure for Home Energy. The area or community exceeds one or more of the following:

• Average annual residential electricity expenditure of $3,010 per household;

• Average annual residential natural gas expenditure of $1,988 per household;

• Average annual residential expenditure on fuel oil of $3,921 per household;

• Average annual residential expenditure on propane or liquefied petroleum gas (LPG) as a primary home energy source of $2,256 per household; or

• Average annual residential energy expenditure (for all non-transportation uses) of $4,860 per household.

b. Extremely High Average per unit energy costs. The average residential per unit cost for major commercial energy sources in the area or community exceeds one or more of the following:

• Annual average revenues per kilowatt hour for residential electricity customers of $0.264 per kilowatt hour (kWh);

• Annual average residential natural gas price of $30.30 per thousand cubic feet;

• Annual average residential fuel oil price of $5.54 per gallon;

• Annual average residential price of propane or LPG as a primary home energy source of $5.10 per gallon; or

• Total annual average residential energy cost on a Btu basis of $51.62 per million Btu.¹

¹ Note: Btu is the abbreviation for British thermal unit, a standard energy measure. A Btu is the quantity of heat needed to raise the temperature of one pound of water 1 degree Fahrenheit at or near 39.2 degrees Fahrenheit.

ii. Supporting Energy Cost Data

The applicant must include information that demonstrates its eligibility under RUS's high energy cost benchmarks for the communities and areas. The applicant must supply documentation or references for its sources for actual or estimated home energy expenditures or equivalent measures to support eligibility. Generally, the applicant will be expected to use historical residential energy cost or expenditure information for the local energy provider serving the community or area to determine eligibility. Other potential sources of home energy related information include Federal and State agencies, local community energy providers such as electric and natural gas utilities and fuel dealers, and commercial publications. The Application Guide includes a list of EIA resources on residential energy consumption and costs that may be of assistance.

The grant applicant must establish eligibility for each community in the project's area. To determine eligibility, the applicant must identify each community included in whole or in part within the areas and provide supporting actual or estimated energy expenditure data for each community. The smallest area that may be designated as an area is a 2010 Census block. This minimum size is necessary to enable a determination of population size.

Potential applicants can compare the benchmark criteria to available information about local energy use and costs to determine their eligibility. Applicants should demonstrate their eligibility using historical energy use and cost information. Where such information is unavailable or does not adequately reflect the actual costs of supporting average home energy use in a local community, RUS will consider estimated commercial energy costs. The Application Guide includes examples of circumstances where estimated energy costs are used.

EIA does not collect or maintain data on home energy expenditures in sufficient detail to identify specific rural localities as extremely high energy cost communities. Therefore, grant applicants will have to provide information on local community energy costs from other sources to support their applications.

In many instances, historical community energy cost information can be obtained from a variety of public sources or from local utilities and other energy providers. For example, EIA publishes monthly and annual reports of residential prices by State and by service area for electric utilities and larger natural gas distribution companies. Average residential fuel oil and propane prices are reported regionally and for major cities by government and private publications. Many State agencies also compile and publish information on residential energy costs to support State programs.

iii. Use of Estimated Home Energy Costs

Where historical community energy cost data are incomplete or lacking or where community-wide data do not accurately reflect the costs of providing home energy services in the area, the applicant may substitute estimates based on engineering standards. The estimates should use available community, local, or regional data on energy expenditures, consumption, housing characteristics and population. Estimates are also appropriate where the area does not presently have centralized commercial energy services at a level that is comparable to other residential customers in the State or region. For example, local commercial energy cost information may not be available where the area is without local electric service because of the high costs of connection. Engineering cost estimates reflecting the incremental costs of extending service could reasonably be used to establish eligibility for areas without grid-connected electric service. Estimates also may be appropriate where historical energy costs do not reflect the costs of providing a necessary upgrade or replacement of energy infrastructure to maintain or extend service that would raise costs above one or more benchmarks. Information to support high energy cost eligibility is subject to independent review by RUS. Applications that contain information that is not reasonably based on credible sources of information and sound estimates will be rejected. Where appropriate, RUS may consult standard sources to confirm the reasonableness of information and estimates provided by an applicant in determining eligibility, technical feasibility, and adequacy of proposed budget estimates.

C. Limitations on Grant Awards

i. Statutory Limitation on Planning and Administrative Expenses

Section 19 of the RE Act provides that no more than 4 percent of the grant funds for any project may be used for the planning and administrative expenses of the grantee that are not directly related to the grant project.

ii. Ineligible Grant Purposes

Grant funds cannot be used for: Preparation of the grant application, fuel purchases, routine maintenance or other operating costs, and purchase of equipment, structures, or real estate not directly associated with provision of residential energy services. In general, grant funds may not be used to support projects that primarily benefit areas outside of eligible communities. However, grant funds may be used to finance an eligible community's proportionate share of a larger energy project.

Consistent with USDA policy and program regulations, grant funds awarded under this program generally cannot be used to replace other USDA assistance or to refinance or repay outstanding loans under the RE Act. Grant funds may, however, be used in combination with other USDA assistance programs including electric loans. Grants may be applied toward grantee contributions under other USDA programs depending on the specific terms of those programs. For example, an applicant may propose to use grant funds to offset the costs of electric system improvements in extremely high cost areas by increasing the utility's contribution for line extensions or system expansions to its distribution system financed in whole or part by an electric loan under the RE Act. An applicant may propose to finance a portion of an energy project for an extremely high energy cost community through this grant program and secure the remaining project costs through a loan or loan guarantee from RUS or grant other sources. The determination of whether a project will be completed in this manner will be made solely by the Administrator.

iii. Maximum and Minimum Awards

The maximum amount of grant assistance that will be considered for funding per grant application under this notice is $3,000,000. The minimum amount of assistance for a competitive grant application under this program is $20,000.

IV. Application and Submission Information

All applications must be prepared and submitted in compliance with this NOFA and the Application Guide. The Application Guide contains additional information on the grant program, sources of information for use in preparing applications, examples of eligible projects, and copies of the required application forms.

1. Address To Request an Application Package

Applications materials and the Application Guide are available for download through http://www.Grants.gov (under CFDA No. 10.859) and on the Electric Programs Web site at: http://www.rurdev.usda.gov/UEP_Our_Grant_Programs.html.

Application packages, including required forms, may be also be requested from: Kristi Kubista-Hovis, Senior Policy Advisor, United States Department of Agriculture, Rural Development Utilities Programs, Electric Program, 1400 Independence Avenue SW., STOP 1560, Room 5165, South Building, Washington, DC 20250- 1560. Telephone 202-720-9545, Fax 202-690-0717, email kristi.kubista-hovis@wdc.usda.gov.

2. Content and Form of Application Submission

Applicants must follow the directions in this notice and the Application Guide in preparing their applications and narrative proposals. The completed application package should be assembled in the order specified with all pages numbered sequentially or by section.

A. Application Contents

Applicants must submit the following information for the application to be complete and considered for funding:

i. Formatting and length of application. All applications must be on single sided pages and all pages must be numbered. Only numbered pages will be reviewed. All applications are limited to the page limits specified by each section in this NOFA. Any additional pages greater than what is specified in this NOFA will not be reviewed and considered.

ii. Part A. A Completed SF 424, “Application for Federal Assistance.” This form must be signed by a person authorized to submit the proposal on behalf of the applicant. Note: SF 424 has recently been revised to include new required data elements, including a DUNS number. You must submit the revised form. Copies of this form are available in the application package available on line through RUS's Web site or through Grants.gov, or by request from the RUS contact listed above.

iii. Part B. Grant Eligibility (3 pages total). The Grant Eligibility is a narrative section that establishes the applicant's eligibility.

a. Project Abstract and Eligibility. This section provides a summary of the proposed project. The project must be described in sufficient detail to establish that it is an eligible project according to this NOFA.

b. Applicant Eligibility. This section includes a narrative statement that identifies the applicant and supporting evidence establishing that the applicant has or will have the legal authority to enter into a financial assistance relationship with the Federal Government. Applicants must also be free of any debarment or other restriction on their ability to contract with the Federal government. Corporations that have been convicted of a felony (or had an officer or agency acting on behalf of the corporation convicted of a felony) within the past 24 months are not eligible. Any Corporation that has any unpaid federal tax liability that has been assessed, for which all judicial and administrative remedies have been exhausted or have lapsed, and that is not being paid in a timely manner pursuant to an agreement with the authority responsible for collecting the tax liability is not eligible.

3. Community Eligibility. This section provides a narrative description of the community or communities to be served by the project and supporting information to establish eligibility. The narrative must show that the proposed grant project's area or areas are located in one or more communities where the average residential energy costs exceed one or more of the benchmark criteria for extremely high energy costs as described in this NOFA. The narrative should clearly identify the location and population of the areas to be aided by the grant project and their energy costs and the population of the local government division in which they are located. Local energy providers and sources of high energy cost data and estimates should be clearly identified. Neither the applicant nor the project must be physically located in the extremely high energy cost community, but the funded project must serve an eligible community. The population estimates should be based on the results of the 2010 Census available from the U.S. Census Bureau. Additional information and exhibits supporting eligibility may include maps, summary tables, and references to statistical information from the U.S. Census, the Energy Information Administration, other Federal and State agencies, or private sources. The Application Guide includes additional information and sources that the applicant may find useful in establishing community eligibility.

iv. Part C. Grant Proposal (maximum of 30 pages). The grant proposal is a narrative description prepared by the applicant that describes the proposed grant project, the potential benefits of the project, and a proposed budget. The grant proposal should contain the following sections in the order indicated.

a. Executive Summary (1 page). The Executive Summary is a one page narrative summary that: (a) Identifies the applicant, project title, and the key contact person with telephone and fax numbers, mailing address and email address; (b) specifies the amount of grant funds requested; and (c) provides a brief description of the proposed project including the eligible rural communities and residents to be served, activities and facilities to be financed, and how the grant project will offset or reduce the community's extremely high energy costs.

b. Project Needs (2 pages). This section is a narrative that describes the needs of the community; identifying if it is deemed an economic hardship community or if the community is facing an imminent hazard. A community facing economic hardship is defined as a situation where the 2000 median household income for the community is 20 percent below the State average or where the community suffers from economic conditions that severely constrain its ability to provide or improve energy facilities serving the community. Projects focused in correcting an imminent hazard are defined as projects that will correct a condition posing an imminent hazard to public safety, public welfare, the environment, or to a critical community or residential energy facility in immediate danger of failure because of a deteriorated condition, capacity limitation, or damage from a natural disaster or accident. Applicants must describe in detail and document conditions creating severe community economic hardship or imminent hazard in the proposal.

c. Project Description (Design) (5 pages): This section must provide a narrative description of the project including a proposed scope of work identifying major tasks and proposed schedules for task completion, a detailed description of the equipment, facilities and associated activities to be financed with grant funds, the location of the eligible extremely high energy cost communities to be served, and an estimate of the overall duration of the project. The Project Design description should be sufficiently detailed to support a finding of technical feasibility. Proposed projects involving construction, repair, replacement, or improvement of electric generation, transmission, and distribution facilities must generally be consistent with the standards and requirements for projects financed with loans and loan guarantees under the RE Act as set forth in RUS's Electric Programs Regulations and Bulletins and may reference these requirements.

d. Project Goals and Objectives and Project Performance Measures (2 pages): The applicant should clearly identify how the project addresses the energy needs of the community and include appropriate measures of project success such as, for example, expected reductions in household or community energy costs, avoided cost increases, enhanced reliability, or economic or social benefits from improvements in energy services available to the community. The applicant should include quantitative estimates of cost or energy savings and other benefits. The applicant should provide documentation or references to support its statements about cost-effectiveness savings and improved services. The applicant should also describe how it plans to measure and monitor the effectiveness of the program in delivering its projected benefits.

e. Project Management (8 pages): This section must provide a narrative describing the applicant's capabilities and project management plans. The description should be broken down into the following subsections:

1. Management Plan and Schedule (2 pages). This subsection should include the application's organizational structure, method of funding, if the applicant proposes to use affiliated entities, and production schedule in implementing the grant award. If the applicant proposes to secure equipment, design, construction, or other services from non-affiliated entities, the applicant must briefly describe how it plans to procure and/or contract for such equipment or services. The applicant should provide information that will support a finding that the combination of management team's experience, financial management capabilities, resources and project structure will enable successful completion of the project.

A. Project Reporting Plan (2 pages). This subsection should provide a detailed description of the reporting requirements as well as consequences if the project falls behind.

B. Relevant Organizational Experience (2 pages). This subsection should include a detailed description of the organization that will install or implement the proposed projects. Information on success rates, past project long term viability, and consumer complaints are required. If the applicant has received any HECG funding, or other Federal funding a detailed description of past performance is required in this section.

C. Key Staff Experience (2 pages). This subsection requires bio/descriptions of all key staff and must be provided. If the applicant proposes to use affiliated entities, contractors, or subcontractors to provide services funded under the grant, the applicant must describe the identities, relationship, qualifications, and experience of these affiliated entities. The experience and capabilities of these entities will be reviewed by the rating panel.

f. Regulatory and other approvals (2 pages). The applicant must identify any other regulatory or other approvals required by other Federal, State, local, or Tribal agencies, or by private entities as a condition of financing that are necessary to carry out the proposed grant project and its estimated schedule for obtaining the necessary approvals. Prior to the obligation of any funds for the selected proposals, applicants will be required to gather specific information in order for RUS to comply with the National Environmental Policy Act of 1969 (NEPA) and National Historic Preservation Act (NHPA), for which the provision of funding is considered an undertaking subject to review. The environmental information that must be supplied by the applicant can be found in the environmental report in the application materials.

g. Rural development initiatives (1 page). The narrative should describe whether and how the proposed project will support any State rural development initiatives. If the project is in support of a rural development initiative, the application should include confirming documentation from the appropriate rural development agency. The application must identify the extent to which the project is dependent upon or tied to other rural development initiatives, funding and approvals. The applicant should also clarify if they are located in a rural community of less than 20,000 people. Projects that do not support a State rural development initiative, but are located in communities of less than 20,000, will still receive the full 5 points.

h. Proposed Project Budget (4 pages). The applicant must submit a proposed budget for the grant program on SF 424A, “Budget Information—Non-Construction Programs” or SF-424C, “Standard Form for Budget Information-Construction Programs,” as applicable. All applicants that submit applications through Grants.gov must use SF-424A. The applicant should supplement the budget summary form with more detailed information describing the basis for cost estimates. The detailed budget estimate should itemize and explain major proposed project cost components such as, but not limited to, the expected costs of design and engineering and other professional services, personnel costs (salaries/wages and fringe benefits), equipment, materials, property acquisition, travel (if any), and other direct costs, and indirect costs, if any. The budget must document that planned administrative and other expenses of the project sponsor that are not directly related to performance of the grant will not total more than 4 percent of grant funds. The applicant must also identify the source and amount of any other Federal or non-Federal contributions of funds or services that will be used to support the proposed project.

i. Supplementary Material (5 pages). Only letters of Support will be accepted as Supplementary materials. No other additional information will be accepted or reviewed. Letters from congress will not be counted against the page limitation.

v. Part D. Additional Required Forms and Certifications. In order to establish compliance with other Federal requirements for financial assistance, the applicant must execute and submit with the initial application the following forms and certifications:

• SF 424B, “Assurances—Non-Construction Programs” or SF 424D, “Assurances—Construction Programs” (as applicable). All applicants applying through Grants.gov must use form SF 424B.

• SF LLL, “Disclosure of Lobbying Activities.”

• “Certification Regarding Debarment, Suspension and Other Responsibility Matter—Primary Covered Transactions” as required under 7 CFR part 3017, Appendix A. Certifications for individuals, corporations, nonprofit entities, Indian Tribes, partnerships.

• Environmental Report. The RUS environmental report template included in the Application Guide solicits information about project characteristics and site-specific conditions that may involve environmental, historic preservation, and other resources. The information will be used by RUS's environmental staff to determine what, if any, additional environmental impact analyses may be necessary before a final grant award may be approved. A copy of the environmental report and instructions for completion are included in the Application Guide and may be downloaded from RUS's Web site or Grants.gov.

3. Additional Information Requests

In addition to the information required to be submitted in the application package, the RUS may request that successful grant applicants provide additional information, analyses, forms and certifications before the grant agreement is signed and funds are obligated but after the award is subject to any environmental reviews or other reviews or certifications required under USDA and Government-wide assistance regulations. The RUS will advise the applicant in writing of any additional information required.

4. Submitting the Application

Applicants that are submitting paper application packages must submit one original application package that includes original signatures on all required forms and certifications and two copies. Applications should be submitted on 8½ by 11 inch white paper.

A completed paper application package must contain all required parts in the order indicated in the above section on “Content and Form of Application Submission.” The application package should be paginated either sequentially or by section. Applicants are requested to provide the application package in single-sided format for ease of copying.

Applicants that are submitting application packages electronically through the Federal grants portal Grants.gov (http://www.Grants.gov) must follow the application requirements and procedures and submit all the forms in the application package provided there. The Grants.gov Web site contains full instructions on all required registration, passwords, credentialing and software required to submit applications electronically. Grants.gov has streamlined the registration and credentialing process and now requires separate application processes for individuals and organizations. Individual applicants, including individuals applying on behalf of an organization, should follow the special directions for individuals on the Grants.gov Web site. Organizational applicants and sole proprietorships should follow the instructions for organizations.

Organizational applicants are advised that completion of the requirements for registration with Grants.gov, with the Central Contractor Registry, and e-Authentication required under Grants.gov may take a week or more and may be delayed. Accordingly, RUS strongly recommends that you complete your organization's registration with Grants.gov well in advance of the deadline for submitting applications.

USDA encourages both individual and organizational applicants who wish to apply through Grants.gov to submit their applications well in advance of the deadlines. Early submittal will give you time to resolve any system problems or technical difficulties with an electronic application through the customer support resources available at the Grants.gov Web site while preserving the option of submitting a timely paper application if any difficulties cannot be resolved.

5. Disclosure of Information

All material submitted by the applicant may be made available to the public in accordance with the Freedom of Information Act (5 U.S.C. 552) and USDA's implementing regulations at 7 CFR part 1.

6. Submission Dates and Times

Applications must be postmarked or hand delivered to the RUS or posted to Grants.gov by July 30, 2012. RUS will begin accepting applications on the date of publication of this NOFA. RUS will accept for review all applications postmarked or delivered to us by this deadline. Late or incomplete applications will not be considered and discarded.

For the purposes of determining the timeliness of an application the RUS will accept the following as valid postmarks: the date stamped by the United States Postal Service on the outside of the package containing the application delivered by U.S. Mail; the date the package was received by a commercial delivery service as evidenced by the delivery label; the date received via hand delivery to the RUS headquarters; and the date an electronic application was posted for submission to Grants.gov.

7. Intergovernmental Review

This program is not subject to the requirements of Executive Order 12372, “Intergovernmental Review of Federal Programs,” as implemented under USDA's regulations at 7 CFR part 3015.

8. Other Submission Requirements

A completed application must contain all required parts in the order indicated in the above section on “Content and Form of Application Submission.” The application package should be paginated either sequentially or by section.

The completed paper application package and two copies must be delivered to the RUS headquarters in Washington, DC, using United States Mail, overnight delivery service, or by hand to the following address: Rural Utilities Service, Electric Programs, United States Department of Agriculture, 1400 Independence Avenue SW., STOP 1560, Room 5165 South Building, Washington, DC 20250- 1560. Applications should be marked “Attention: High Energy Cost Community Grant Program.”

Applicants are advised that regular mail deliveries to Federal Agencies, especially of oversized packages and envelopes, continue to be delayed because of increased security screening requirements. Applicants may wish to consider using Express Mail or a commercial overnight delivery service instead of regular mail. Applicants wishing to hand deliver or use courier services for delivery should contact an RUS representative in advance to arrange for building access. The RUS advises applicants that because of intensified security procedures at government facilities that any electronic media included in an application package may be damaged during security screening. If an applicant wishes to submit such materials, they should contact an RUS representative for additional information.

After the grant application deadline has passed, USDA will send an electronic confirmation acknowledging that the application has been received by the RUS from Grants.gov. Grants.gov will not accept applications for filing after the deadline has passed. RUS will not accept applications directly over the Internet, by email, or fax.

Applicants should be aware that Grants.gov requires that applicants complete several preliminary registrations and e-authentication requirements before being allowed to submit applications electronically. Applicants should consult the Grants.gov Web site and allow ample time to complete the steps required for registration before submitting their applications. Applicants may download application materials and complete forms online through Grants.gov without completing the registration requirements. Application materials prepared online may be printed and submitted in paper to RUS as detailed above.

9. Multiple Applications

Eligible applicants must include only one project per application, but the project can include many locations. No more than $3 million in grant funds will be awarded per project application. Unlike prior HECG NOFAs, an applicant will only be awarded funding for one project under this NOFA. An applicant will not receive funding for numerous projects under this NOFA.

V. Application Review Information

After the application closing date, RUS will not consider any unsolicited information from the applicant. The RUS may contact the applicant for additional information or to clarify statements in the application required to establish applicant or community eligibility and completeness. Only applications that are complete and meet the eligibility criteria will be considered. The RUS will not accept or solicit any additional information relating to the technical merits and feasibility of the grant proposal after the application closing date.

If the RUS determines that an application package was not delivered to RUS or postmarked on or before the deadline of July 30, 2012, the application will be rejected as untimely.

After review, the RUS will reject any application package that in its sole discretion determines is not complete or that does not demonstrate that the applicant, community or project is eligible under the requirements of this NOFA and program regulations. Applicants will be notified in writing of RUS's decision. Applicants may appeal the rejection pursuant to program regulations on appeals at 7 CFR 1709.6. The appeal must be made in writing to the RUS Administrator within 10 days after the applicant is notified of the determination to reject the application. The appeal must state the basis for the appeal. Under 7 CFR 1709.6, appeals must be directed to the Administrator, Rural Utilities Service, United States Department of Agriculture, 1400 Independence Ave., SW., STOP 1500, Washington, DC 20250-1500. The Administrator will review the appeal to determine whether to sustain, reverse, or modify the original determination by the Assistant Administrator. The Administrator's decision shall be final. A written copy of the Administrator's decision will be furnished promptly to the applicant.

The RUS may establish one or more rating panels to review and rate the eligible grant applications. These panels may include persons not currently employed by USDA.

The panel will evaluate and rate all complete applications that meet the eligibility requirements using the selection criteria and weights described in this NOFA. As part of the proposal review and ranking process, panel members may make comments and recommendations for appropriate conditions on grant awards to promote successful performance of the grant or to assure compliance with other Federal requirements. The decision to include panel recommendations on grant conditions in any grant award will be at the sole discretion of the RUS Administrator.

All applications will be scored and ranked according to the evaluation and scoring criteria described in this Notice. The evaluation and scoring criteria differ from those used in prior NOFAs. The RUS will use the ratings and recommendations of the panel to rank applicants against other applicants. All applicants will be ranked according to their scores in this round. The rankings and recommendations will then be forwarded to the Administrator for final review and selection.

Decisions on grant awards will be made by the RUS Administrator based on the application, and the rankings and recommendations of the rating panel.

The Administrator will fund grant requests in rank order to the extent of available funds. If sufficient funds are not available to fund the next ranked project, the Administrator may, in his sole discretion, skip over that project to the next ranking project that can be fully funded with available funding.

1. Scoring Criteria

The RUS will use the selection criteria described in this NOFA to evaluate and rate applications. Applications will be reviewed in two rounds, the first round determines eligibility and the second round scores the application.

A. Determining Eligibility

To determine if the project is eligible, a review panel will look only at the three page document, Part B: Grant Eligibility, which is described in this NOFA and includes narrative on the Project, Applicant, and Community eligibility. No points will be awarded in this round of review. The application is only determined to be eligible or not eligible. Applicants that are determined to be ineligible will be notified and have 10 days to appeal the decision.

B. Scoring Eligible Applicants

The total possible score is 100, and the applicant will be scored only on Part C: Grant Proposal as described in this NOFA. The following are the scored sections and their associated point totals:

| Points
Executive Summary | 0
Project Needs | 15
Project Description (Design) | 30
Project Goals and objectives and Project Performance Measures | 10
Project Management | 30
Management Plan and Schedule, (a subset of Project Management) | 10
Project Reporting Plan (a subset of Project Management) | 5
Relevant Organizational Experience (a subset of Project Management) | 5
Key Staff Experience (a subset of Project Management) | 10
Regulatory and other approvals | 0
Rural development initiatives | 5
Proposed Project Budget | 10
Supplementary Material | 0
Total | 100 points

2. Review and Selection Process

A. Applications will be scored and ranked according to the evaluation criteria and weights referenced above by a panel. The scored and ranked applications and the raters' comments will then be forwarded to the Administrator for review and selection of grant awards.

B. Selection of Grant Awards and Notification of Applicants

The RUS Administrator will review the rankings and recommendations of the applications provided by the rating panel for consistency with the requirements of this NOFA. The Administrator may return any application to the rating panel with written instruction for reconsideration if, in his sole discretion, he finds that the scoring of an application is inconsistent with this NOFA and the directions provided to the rating panel.

Following any adjustments to the project rankings as a result of reconsideration, the Administrator will select projects for funding in rank order. If two projects from the same applicant score high enough to potentially receive funding, the Administrator will skip the lower scoring project; not fund the project.

The Administrator may decide based on the recommendations of the rating panel or in his sole discretion that a grant award may be made contingent upon the applicant satisfying certain conditions. For example, RUS will not obligate funding for a selected project—such as projects requiring extensive environmental review and mitigation, preparation of detailed site specific engineering studies and designs, or requiring local permitting, or availability of supplemental financing—until any additional conditions are satisfied. In the event that a selected applicant fails to comply with the conditions within the time set by RUS, the award will be terminated.

The RUS will notify each applicant in writing whether or not it has been selected for an award. The RUS written notice to a successful applicant of the amount of the grant award based on the approved application will constitute RUS's acceptance of a project for an award, subject to compliance with all post-award requirements including but not limited to completion of any environmental reviews and execution of a grant agreement satisfactory to the RUS. This acceptance does not bind the Government to making a final grant award. Only an agreement executed by the Administrator will constitute a binding obligation and commitment of Federal funds. Funds will not be awarded or disbursed until all requirements have been satisfied and are contingent on the continued availability of funds at the time of the award. The RUS will advise selected applicants of additional requirements or conditions.

VI. Award Administration Information

1. Award Notices

The RUS will notify all applicants in writing whether they have been selected for an award. Successful applicants will be advised in writing of their selection. Successful applicants will be required to execute an RUS grant agreement and complete additional grant forms and certifications required by USDA as part of the process.

Depending on the nature of the activities proposed by the application, the grantee may be asked to provide information and certifications necessary for compliance with RUS' Environmental Policies and Procedures at 7 CFR part 1794. Following completion of the environmental review process, selected applicants will receive a letter articulating the grant agreement and asked to execute a letter of intent to meet the grant conditions. Grant funds will not be advanced unless and until the applicant has executed a grant agreement and funds will not be advanced until all conditions have been satisfied in a manner satisfactory to RUS.

2. Administrative and National Policy Requirements

A. Environmental Review and Restriction on Certain Activities

Grant awardees will be required to submit the appropriate environmental review documentation, as outlined in the environmental report and any other following environmental impact analyses required by RUS Environmental Policies and Procedures (7 CFR Part 1794) Grantees must also agree to comply with any other Federal or State environmental laws and regulations applicable to the grant project.

In accordance with § 1794.15, applicants are restricted from taking actions that may have an adverse environmental impact or limit the choice of alternatives being considered until the environmental review process is concluded. If an applicant takes such actions, RUS will not advance grant funds. If the proposed grant project involves physical development activities or property acquisition, the applicant is generally prohibited from acquiring, rehabilitating, converting, leasing, repairing or constructing property or facilities, or committing or expending RUS or non-RUS funds for proposed grant activities until the RUS has completed any environmental review in accordance with 7 CFR part 1794 or determined that no environmental review is required. Successful applicants will be advised whether additional environmental review requirements apply to their proposals.

B. Other Federal Requirements

Other Federal statutes and regulations apply to grant applications and to grant awards. These include, but are not limited to, requirements under 7 CFR part 15, subpart A—Nondiscrimination in Federally Assisted Programs of the Department of Agriculture—Effectuation of Title VI of the Civil Rights Act of 1964.

Certain Office of Management and Budget (OMB) circulars also apply to USDA grant programs and must be followed by a grantee under this program. The policies, guidance, and requirements of the following, or their successors, may apply to the award, acceptance and use of assistance under this program and to the remedies for noncompliance, except when inconsistent with the provisions of the Agriculture, Rural Development and Related Agencies' Appropriations Acts, other Federal statutes or the provisions of this NOFA:

• OMB Circular No. A-87 (Cost Principles Applicable to Grants, Contracts and Other Agreements with State and Local Governments);

• OMB Circular A-21 (Cost Principles for Education Institutions);

• OMB Circular No. A-122 (Cost Principles for Nonprofit Organizations);

• OMB Circular A-133 (Audits of States, Local Governments, and Non-Profit Organizations);

• 7 CFR part 3015 (Uniform Federal Assistance Regulations);

• 7 CFR part 3016 (Uniform Administrative Requirements for Grants and Cooperative Agreements to State, Local, and Federally recognized Indian Tribal governments);

• 7 CFR part 3017 (Government-wide debarment and suspension (non-procurement) and Government-wide requirements for drug-free workplace (grants));

• 7 CFR part 3018 (New restrictions on Lobbying);

• 7 CFR part 3019 (Uniform administrative requirements for grants and Agreements with Institutions of Higher Education, Hospitals, and other Non-Profit Organizations); and

• 7 CFR part 3052 (Audits of States, local governments, and non-profit organizations).

Compliance with additional OMB Circulars or government-wide regulations may be specified in the grant agreement.

3. Reporting

The grantee will be required to provide periodic financial and performance reports under USDA grant regulations and program rules and to submit a final project performance report. The nature and frequency of required reports are established in USDA grant regulations and the project-specific grant agreements.

The applicant must have the necessary processes and systems in place to comply with the reporting requirements for first-tier sub-awards and executive compensation under the Federal Funding Accountability and Transparency Act of 2006 in the event the applicant receives funding unless such applicant is exempt from such reporting requirements pursuant to 2 CFR part 170, § 170.110(b). The reporting requirements under the Transparency Act pursuant to 2 CFR part 170 are as follows:

A. First Tier Sub-Awards of $25,000 or more in non-Recovery Act funds (unless they are exempt under 2 CFR Part 170) must be reported by the Recipient to http://www.fsrs.gov no later than the end of the month following the month the obligation was made.

B. The Total Compensation of the Recipient's Executives (5 most highly compensated executives) must be reported by the Recipient (if the Recipient meets the criteria under 2 CFR Part 170) to http://www.ccr.gov by the end of the month following the month in which the award was made.

C. The Total Compensation of the Subrecipient's Executives (5 most highly compensated executives) must be reported by the Subrecipient (if the Subrecipient meets the criteria under 2 CFR Part 170) to the Recipient by the end of the month following the month in which the subaward was made.

VII. RUS Contact

The RUS Contact for this grant announcement is Kristi Kubista-Hovis, Senior Policy Advisor, Rural Utilities Service, Electric Programs, United States Department of Agriculture, 1400 Independence Avenue SW., STOP 1560, Room 5165 South Building, Washington, DC 20250-1560. Telephone 202-720-9545, Fax 202- 690-0717, email Kristi.Kubista-Hovis@wdc.usda.gov.

Dated: May 30, 2012.
Jonathan Adelstein,
Administrator, Rural Utilities Service.

[FR Doc. 2012-15906 Filed 6-27-12; 8:45 am]

BILLING CODE P